DEPARTMENT OF TRANSPORTATION

National Highway Traffic Safety Administration

[Docket No. NHTSA-04-18675]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under new procedures established by the Paperwork Reduction Act of 1995, before seeking OMB approval, Federal agencies must solicit public comment on proposed collections of information, including extensions and reinstatements of previously approved collections.

This document describes one collection of information for which NHTSA intends to seek OMB approval.

DATES: Comments must be received on or before October 18, 2004.

ADDRESSES: Direct all written comments to U.S. Department of Transportation Dockets, 400 Seventh Street, SW., Plaza 401, Washington, DC 20590. Docket No. NHTSA-04-18675.

FOR FURTHER INFORMATION CONTACT: Mr. Alan Block, Contracting Officer's Technical Representative, Office of Research and Technology (NTI-131), National Highway Traffic Safety Administration, 400 Seventh Street, SW., Room 5119, Washington, DC 20590.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Increasing Safety Belt Use Among Children Ages 8-15

Type or Request—New information collection requirement.

OMB Clearance Number—None.

Form Number—This collection of information uses no standard forms.

Requested Expiration Date of Approval—October 30, 2007.

Summary of the Collection of Information—NHTSA proposes to conduct immersion sessions with 27 families and triad interviews with 288 children as part of a study on safety belt use by children 8-15 years old. Participation by respondents would be voluntary. NHTSA's information needs require research to reveal the best interventions for influencing children 8 years and older to wear safety belts at all times when riding in a motor vehicle.

Immersion sessions will be conducted with 27 different families: 9 African-American, 9 Hispanic, and 9 White. Immersion is a research technique that involves “immersing” oneself in the environment of one's research subjects in order to better understand them. For this project, each immersion session will consist of interviewing a child and that child's family with his/her home environment over a two-hour period, while at the same time observing interactions among the family participants.

A total of 96 triad interviews will also be conducted, using a sample independent from the immersion session sample. The triads will consist of 75-minute sessions with groups of three children in an information collection setting similar to that of a focus group. One-third of the triads will be composed of African-American participants, one-third by Hispanic participants, and one-third by White participants. The triads will also be segmented by the sex of the participants, their age (8-9, 10-11, 12-13, 14-15), and their level of safety belt use (full time use, part time use, and non-use).

Description of the Need for the Information and Proposed Use of the Information

Wearing a safety belt when riding in a motor vehicle is the single most effective action that a person can take to prevent injury or fatality in the event of a motor vehicle crash. Research has shown that lap/shoulder belts, when used, reduce the risk of fatal injury to front-seat passenger car occupants by 45 percent and the risk of moderate-to-critical injury by 50 percent. For light truck occupants, safety belts reduce the risk of fatal injury by 60 percent and moderate-to-critical injury by 65 percent.

While more than 90 percent of infants and toddlers use safety restraints when riding in motor vehicles, the percentage drops significantly for older children. In 2003, 81 percent of children ages 8-15 sitting in the front seat of passenger motor vehicles were using a safety belt according to observation data collected by the National Highway Traffic Safety Administration (NHTSA). Moreover, NHTSA's Fatality Analysis Reporting System (FARS) has consistently found more than one-half of child fatalities in the 8-15 age range not using a safety belt.

Little is currently known about the context of safety belt use and non-use by 8-15 year olds as occupant protection studies have tended to focus on older or younger subjects. Yet encouraging safety belt use by 8-15 year olds will not only help save young lives, but also help to establish health and safety behaviors that will be maintained for the rest of their lives.

In order to meet the objective of increasing safety belt use among 8-15 year olds, NHTSA needs additional information from formative research to assist in the development of programs, message, and strategies addressing this issue. If approved, results from the proposed research would be used to (a) reveal opportunities and barriers to 8-15 year old safety belt usage; (b) identify strategies and interventions that will motivate children 8-15 years old to wear their safety belts; and (c) reveal the most effective channels for reaching and influencing children 8-15 years old to wear their safety belts.

Description of the Likely Respondents (Including Estimated Number, and Proposed Frequency of Response to the Collection of Information)

Under this proposed effort, information collection would be conducted with members of the general public. Businesses are ineligible for the study and would not be interviewed.

Immersion sessions two hours in length would be conducted with each of 27 families meeting sample selection criteria. The immersion sessions would be conducted in three different metropolitan areas. The families participating in the immersion sessions would have one or more children in the 8-15 age range. The sample would be selected to include families that differ on demographic factors as well as the child's frequency of safety belt use. Interviewing would be conducted in-person at the home of the families. Multiple family members would be interviewed during the immersion session. Each participating family member would complete one immersion session.

In addition, triad interviews of 75 minutes in length per triad would be conducted with 288 children meeting sample selection criteria. Three children would be interviewed per triad. The triad interviews would be conducted in four metropolitan areas. The age, race and ethnicity, sex, and frequency of safety belt use would be the same for the three children in any triad; but would vary across triads. Each child participant would complete one triad interview.

Estimate of the Total Annual Reporting and Record Keeping Burden Resulting From the Collection of Information

NHTSA estimates that each immersion session would be two hours in length. Family members would participate concurrently in the immersion sessions, with an average of 3.5 participants per family. Thus the number of reporting burden hours a year on the general public for the immersion sessions (27 families multiplied by 3.5 family members multiplied by 2 hours) would be 189 hours for the proposed study.

NHTSA estimates that each triad interview would be 75 minutes in length. The three members of each triad would participate concurrently. Thus the total number of reporting burden hours a year on the general public for the triad interviews (288 children multiplied by 1 interview multiplied by 75 minutes) would be 360 hours for the proposed study.

The combined reporting burden hours a year for the immersion sessions (189) and triad interviews (360) would be 549. The respondents would not incur any reporting cost for the information collection. The respondents also would not incur any record keeping burden or record keeping cost from the information collection.

Marilena Amoni,
Associate Administrator, Program Development and Delivery.

[FR Doc. 04-19020 Filed 8-18-04; 8:45 am]

BILLING CODE 4910-59-M